DEPARTMENT OF TRANSPORTATION

Federal Highway Administration

Environmental Impact Statement, San Diego County, CA

AGENCY: Federal Highway Administration (FHWA), DOT.

ACTION: Notice of Withdrawal.

SUMMARY: The FHWA is issuing this notice to advise the public that the Notice of Intent to prepare an Environmental Impact Statement (EIS) for the proposed San Ysidro port of Entry located in the city of San Diego in San Diego County (Federal Register Vol. 68, No 127; FR Doc 03-16784), California will be rescinded.

FOR FURTHER INFORMATION CONTACT: Cesar E. Perez, Senior Transportation Engineer, Federal Highway Administration, California Division, 650 Capitol Street, Suite 4-100, Sacramento, CA 95814, 916-498-5065, cesar.perez@dot.gov.

SUPPLEMENTARY INFORMATION: The Federal Highway Administration (FHWA), is advising the general public that the notice of Intent published on Wednesday July 2, 2003 is being withdrawn. Since then, the project was re-designed, the General Services Administration (GSA) assumed the lead, while FHWA became a cooperating Agency. GSA issued a Final Environmental Impact Statement Record on August 2009, and a Record of Decision (ROD) for their project on September, 9 2009.

Issued on: December 16, 2009.
Shawn E. Oliver,
State Programs Team Leader, South, Federal Highway Administration, Sacramento, California.

[FR Doc. E9-30353 Filed 12-21-09; 8:45 am]

BILLING CODE 4910-RY-P